DEPARTMENT OF HOUSING AND URBAN DEVELOPMENT

[Docket No. FR-5921-N-14]

Implementation of the Privacy Act of 1974, as Amended; Amended System of Records Notice, Single Family Insurance System (SFIS)

AGENCY: Office of Housing, HUD.

ACTION: Amended System of Records Notice.

SUMMARY: In accordance with the requirements of the Privacy Act of 1974 (5 U.S.C. 552a (e)(4)), as amended, the Department's Office of Housing proposes to amend and reissue a current system of records notice (SORN): Single Family Insurance System (SFIS). The amended notice improves details published in the Federal Register for the SORNs categories of individuals covered, categories of records, authority for maintenance, storage, safeguards, retention and disposal, system manager and address, notification procedures, records access, contesting records procedures, and records source categories. These sections are amended to reflect the current status of information pertaining to the system of records. The existing scope, objectives, and business processes in place for the program remain unchanged. The amended SORN deletes and supersedes the Single Family Insurance System, HUD/HS-10, published in the Federal Register on July 23, 1999 at 64 FR 40032. The updated notice will be included in the Department's inventory of SORNs.

DATES:

Effective Date: This notice action shall be effective immediately, which will become effective [30 days after publication of this notice in the Federal Register].

Comments Due Date: September 28, 2016.

ADDRESSES: Interested persons are invited to submit comments regarding this notice to the Rules Docket Clerk, Office of General Counsel, Department of Housing and Urban Development, 451 Seventh Street SW., Room 10276, Washington, DC 20410. Communications should refer to the above docket number and title. Faxed comments are not accepted. A copy of each communication submitted will be available for public inspection and copying between 8 a.m. and 5 p.m. weekdays at the above address.

FOR FURTHER INFORMATION CONTACT: Helen Goff Foster, Chief Privacy Officer/Senior Agency Official for Privacy, 451 Seventh Street SW., Room 10139, Washington, DC 20410, telephone number 202-402-6836 (this is not a toll-free number). Individuals who are hearing- and speech-impaired may access this number via TTY by calling the Federal Relay Service at 800-877-8339 (this is a toll-free number).

SUPPLEMENTARY INFORMATION: This notice refines information published about the Single Family Insurance Systems SORN. This notice includes updated details about the notices name and location of the record system, the authority for and manner of its operations, the categories of individuals that it covers, the type of records that it contains, the sources of the information for the records, the routine uses made of the records, and the types of exemptions in place for the records. The notice also includes the business address of the HUD officials who will inform interested persons of how they may gain access to and/or request amendments to records pertaining to themselves. The Privacy Act places on Federal agencies principal responsibility for compliance with its provisions, by requiring Federal agencies to safeguard an individual's records against an invasion of personal privacy; protect the records contained in an agency system of records from unauthorized disclosure; ensure that the records collected are relevant, necessary, current, and collected only for their intended use; and adequately safeguard the records to prevent misuse of such information.

Pursuant to the Privacy Act and the Office of Management and Budget (OMB) guidelines, a report of this new system of records was submitted to OMB, the Senate Committee on Homeland Security and Governmental Affairs, and the House Committee on Oversight and Government Reform as instructed by paragraph 4c of Appendix l to OMB Circular No. A-130, “Federal Agencies Responsibilities for Maintaining Records About Individuals,” July 25, 1994 November 28, 2000.

Authority: 5 U.S.C. 552a; 88 Stat. 1896; 42 U.S.C. 3535(d).

Dated: August 16, 2016.
Helen Goff Foster,
Chief Privacy Officer/Senior Agency Official for Privacy.

System of Records No.:

HSNG.SF/HWAFS.01

SYSTEM NAME:

Single Family Insurance System (SFIS) A43—Insurance-in-force (IIF) database.

SYSTEM LOCATION:

The system is physically hosted at the HUD Information Technology Systems Production Data Center located at 2020 Union Carbide Drive, South Charleston, West Virginia 25303 and 4701 Forbes Blvd., Lanham, Maryland, 20706, or at the locations of the service providers under contract with HUD. Electronic records are stored at the VTL storage center South Charleston, West Virginia Data Center. External access is from the following addresses: Housing and Urban Development (HUD) workstations: 451 Seventh Street SW., Washington, DC 20410; 470 L'Enfant Plaza East, Room 3118, Washington, DC 20026; HUD's Atlanta Homeownership Center, Five Points Plaza, 40 Marietta Street, Atlanta, GA 30303; Denver Homeownership Center, UMB Plaza Building, 1670 Broadway, Denver, CO 80202; Philadelphia Homeownership Center, The Wanamaker Building, 100 Penn Square East, Philadelphia, PA 19107; Santa Ana Homeownership Center, Santa Ana Federal Building, 34 Civic Center Plaza, Room 7015, Santa Ana, CA 92701. See also HUD Regional Offices located in Seattle, WA; Atlanta, GA; Ft. Worth, TX; San Francisco, CA; Denver, CO; Boston, MA; Philadelphia, PA; Kansas City, KS; Chicago, IL; New York, NY (see Appendix II ¹ for complete addresses), where records are accessible.

¹ http://portal.hud.gov/hudportal/documents/huddoc?id=append2.pdf.

CATEGORIES OF INDIVIDUALS COVERED BY THE SYSTEM:

Mortgagors who assumed or obtained a mortgage insured under HUD Federal Housing Administration single family mortgage insurance programs. Mortgagors who had Federal Housing (FHA) mortgage insured loans.

CATEGORIES OF RECORDS IN THE SYSTEM:

The categories of records in the A43/SFIS system are as follows:

(1) Insurance-in-Force (IIF) Records: Single Family insurance-in-force records which include PII data pertaining to (Mortgagors) borrower's/co-borrower's and their spouses full names, Social Security numbers, property addresses, date of birth, race/ethnicity, gender/sex; case-level details on the endorsement of the loan to include status code, FHA case number, original mortgage amount, beginning of amortization date, originating lender, transaction records, initial and monthly mortgage insurance premiums (IMIP & MMIP).

AUTHORITY FOR MAINTENANCE OF THE SYSTEM:

Sec. 203, National Housing Act, Public Law 73-479; The National Housing Act (12 U.S.C. 1701 et seq.) and the Department of Housing and Urban Development Act (42 U.S.C. 3531 et seq.); 24 CFR parts 202, 203, 206, 241 and 266. The Housing and Community Development Act of 1987, 42 U.S.C. § 3543, titled “Preventing fraud and abuse in Department of Housing and Urban Development programs” and enacted as part of the Housing and Community Development Act of 1987, which permits the collection of SSN.

PURPOSE(S):

Single Family Insurance System (SFIS) has been used to maintain IIF database, which contains accurate and detailed case information on FHA-insured single family properties. The IIF was initially loaded with information about several million active and terminated FHA cases in the single family mortgage insurance inventory. SFIS allows on-line access to FHA case information and is used to make inquiries and process actions on single family forward mortgages guaranteed by HUD. The system produces daily, weekly, monthly, quarterly, and annually reports upon request. The SFIS process begins with the endorsement of a case and continues through termination of the case and throughout the maintenance phase of post-termination cases. Online access to case information and reports is only available internally to HUD employees. The information in this system of records enables FHA to operate the single family mortgage insurance program (e.g., maintain data on the endorsement of single family loans and loan guarantees); record and calculate the collection of upfront and periodic mortgage insurance premiums (UFMIP and Periodic MIP); refund the unearned portion of the UFMIP's to homeowners; and respond to inquiries regarding insured mortgages. The Department utilizes its Distributive Shares and Refund System (DSRS) to authorize payment of the UFMIP refunds and SFIS system to maintain schedules showing the remaining amount of the UFMIP credit available each month.

ROUTINE USES OF RECORDS MAINTAINED IN THE SYSTEM, INCLUDING CATEGORIES OF USERS AND THE PURPOSES OF SUCH USES.

In addition to those disclosures generally permitted under 5 U.S.C. 522a(b) of the Privacy Act, other routine uses may include:

(1) To appropriate agencies, entities, and persons to the extent such disclosures are compatible with the purpose for which the records in this system were collected, as set forth by Appendix I, HUD's Routine Use Inventory Notice,² published in the Federal Register.

² http://portal.hud.gov/hudportal/documents/huddoc?id=routine_use_inventory.pdf.

POLICIES AND PRACTICES FOR STORING, RETRIEVING, ACCESSING, RETAINING, AND DISPOSING OF RECORDS IN THE SYSTEM:

STORAGE:

Records are stored on magnetic tape/disc/drum. No hard copy records are maintained by SFIS that require storage. Electronic records are stored on DASD—Direct Access Storage Device and Virtual Tape Library (VTL).

RETRIEVABILITY:

Records are retrieved by name, co-borrower name, Social Security Number, property address, home address, and FHA Case number.

SAFEGUARDS:

Automated records are maintained in secured areas. Access is limited to authorized personnel. Access to the system is granted through a user ID and password. Users are required to sign a Rules of Behavior before accessing the system.

RETENTION AND DISPOSAL:

Records are held in accordance with HUD's Records Disposition Schedules Handbook (2225.6), Appendix 20 (Single Family Home Mortgage Insurance Program Records) and Appendix 21 (Financial Management Information Systems). Current retention periods for Single Family Case files are twelve years after close of the calendar year in which endorsed. Electronic records are maintained and destroyed as instructed by guidelines outlined in HUD's IT Security Handbook (2400.25), pursuant to NIST Special Publication 800-88 “Guidelines for Media Sanitization.”

SYSTEM MANAGER(S) AND ADDRESS:

Branch Chief, Single Family Insurance Operations Division, Department of Housing and Urban Development, 470 East L'Enfant Plaza SW., Room 3118, Washington, DC 20410.

NOTIFICATION AND RECORD ACCESS PROCEDURES:

For Information, assistance, or inquiries about the existence of records contact Helen Goff Foster, Chief Privacy Officer/Senior Agency Official for Privacy, 451 Seventh Street SW., Room 10139, Washington, DC 20410, telephone number 202-402-6836. When seeking records about yourself from this system of records or any other HUD system of records, your request must conform with the Privacy Act regulations set forth in 24 CFR part 16. You must first verify your identity by providing your full name, current address, and date and place of birth. You must sign your request, and your signature must either be notarized or submitted under 28 U.S.C. 1746, a law that permits statements to be made under penalty of perjury as a substitute for notarization. In addition, your request should:

(1) Explain why you believe HUD would have information on you.

(2) Identify which HUD office you believe has the records about you.

(3) Specify when you believe the records would have been created.

(4) Provide any other information that will help the Freedom of Information Act (FOIA) staff determine which HUD office may have responsive records.

If you are seeking records pertaining to another living individual, you must obtain a statement from that individual certifying their agreement for you to access their records. Without the above information, the HUD FOIA Office may not be able to conduct an effective search, and your request may be denied due to lack of specificity or lack of compliance with applicable regulations.

CONTESTING RECORD PROCEDURES:

The Department's rules for contesting contents of records and appealing initial denials appear in 24 CFR part 16, Procedures for Inquiries. Additional assistance may be obtained by contacting the Department's Chief Privacy Officer/Senior Agency Official for Privacy, 451 Seventh Street SW., Room 10139, Washington, DC 20410, or the HUD Departmental Privacy Appeals Officers, Office of General Counsel, Department of Housing and Urban Development, 451 Seventh Street SW., Room 10110, Washington, DC 20410.

RECORD SOURCE CATEGORIES:

Record Source categories are obtained from lenders who enter information into HUD's FHA Connection and/or submitted through the HUD Homeownership Centers who endorse loans using HUD's Computerized Homes Underwriting Management System (CHUMS) System, which transmits information to SFIS.

SYSTEMS EXEMPTED FROM CERTAIN PROVISIONS OF THE ACT:

None.

[FR Doc. 2016-20695 Filed 8-26-16; 8:45 am]

BILLING CODE 4210-67-P